FEDERAL COMMUNICATIONS COMMISSION

47 CFR Parts 2, 15 and 18

[ET Docket No. 25-133; FCC 25-85; FR ID 326738]

Delete, Delete, Delete

AGENCY: Federal Communications Commission.

ACTION: Direct final rule; request for comments.

SUMMARY: In this document, the Federal Communications Commission (Commission or FCC) continues its efforts to modernize regulatory framework by rescinding facially obsolete provisions of its rules. The Commission has undertaken a sweeping review aimed at eliminating outdated rules, reducing unnecessary regulatory burdens, accelerating infrastructure deployment, promoting network modernization, and spurring innovation. The Commission's objective is to streamline, simplify, and smartly deregulate across multiple fronts simultaneously to better serve the public and support technological progress.

DATES: Effective March 27, 2026, unless significant adverse comments are received on or before February 17, 2026. In the event the Commission receives significant adverse comments, the Commission will publish a timely withdrawal in the Federal Register informing the public the provisions of the rule(s) for which significant adverse comments were received and elimination will not take effect.

ADDRESSES: You may submit comments, identified by ET Docket No. 25-133, electronically or on paper. For detailed instructions for submitting comments and additional information on the rulemaking process, see the SUPPLEMENTARY INFORMATION section of this document.

FOR FURTHER INFORMATION CONTACT: Kathleen Burke of the Office of Engineering and Technology, at Kathleen.Burke@fcc.gov or 202-418-7225.

SUPPLEMENTARY INFORMATION: This is a summary of the Commission's Direct Final Rule, in ET Docket No. 25-133, FCC 25-85, adopted on December 18, 2025, and released on December 19, 2025. The full text of this document is available for public inspection and can be downloaded at https://www.fcc.gov/document/fcc-deletes-outdated-rules-long-forgotten-technologies-0. Alternative formats are available for people with disabilities (Braille, large print, electronic files, audio format) by sending an email to fcc504@fcc.gov or calling the Commission's Consumer and Governmental Affairs Bureau at (202) 418-0530 (voice), (202) 418-0432 (TTY).

Comment Period and Filing Procedures. Interested parties may file comments on or before the dates provided in the DATES section of this document. Comments must be filed in GN Docket No. 25-133. Comments may be filed using the Commission's Electronic Comment Filing System (ECFS). See Electronic Filing of Documents in Rulemaking Proceedings, 63 FR 24121 (1998).

• All filings must be addressed to the Commission's Secretary, Office of the Secretary, Federal Communications Commission.

• Electronic Filers: Comments may be filed electronically using the internet by accessing the ECFS: https://www.fcc.gov/ecfs/.

• Paper Filers: Parties who choose to file by paper must file an original and one copy of each filing. If more than one docket or rulemaking number appears in the caption of this proceeding, filers must submit two additional copies for each additional docket or rulemaking number.

• Commercial overnight mail (other than U.S. Postal Service Express Mail and Priority Mail) must be sent to 9050 Junction Drive, Annapolis Junction, MD 20701.

• U.S. Postal Service first-class, Express, and Priority mail must be addressed to 45 L Street NE, Washington, DC 20554.

Procedural Matters

Paperwork Reduction Act. This document does not contain new or modified information collections subject to the Paperwork Reduction Act of 1995 (PRA), 44 U.S.C. 3501-3521. In addition, therefore, it does not contain any new or modified information collection burden for small business concerns with fewer than 25 employees, pursuant to the Small Business Paperwork Relief Act of 2002, 44 U.S.C. 3506(c)(4).

Congressional Review Act. The Commission has determined, and the Administrator of the Office of Information and Regulatory Affairs, Office of Management and Budget, concurs, that this rule is “non-major” under the Congressional Review Act, 5 U.S.C. 804(2). The Commission will send a copy of this Direct Final Rule to Congress and the Government Accountability Office pursuant to 5 U.S.C. 801(a)(1)(A).

Synopsis

Introduction

In initiating this proceeding, the Commission generally sought to identify rules that are obsolete, outdated, unlawful, anticompetitive, or otherwise no longer in the public interest. The Commission specifically focuses on the repeal of certain rules managed by the Office of Engineering and Technology (OET) in parts 2, 15, and 18 for which prior notice and comment are unnecessary, but for which the Commission elects to provide an opportunity for input on that assessment. Absent any significant adverse comments in response to this document, these rules will be repealed.

Background

Good Cause to Forgo Notice and Comment. Under the Administrative Procedure Act (APA), when an agency for good cause finds that notice and public comment “are impracticable, unnecessary, or contrary to the public interest,” it need not follow notice and comment procedures before modifying or repealing rules. Prior notice and comment are “unnecessary” when “the administrative rule is a routine determination, insignificant in nature and impact, and inconsequential to the industry and to the public.”

The Commission has identified 36 rule provisions, totaling 12,008 words and covering more than 25 pages in the Code of Federal Regulations, that no longer serve the public interest because they regulate obsolete technology, are no longer used in practice by the FCC, industry, or the public, or are otherwise outdated or unnecessary. Applying the “good cause” standard discussed above, the Commission concludes that prior notice and comment are unnecessary before repealing the rules identified in the Appendix.

Direct Final Rule Process. In this document, the Commission follows the processes previously outlined by the Commission regarding direct final rules, which it briefly summarize here. When the Commission has found that prior notice and comment is unnecessary before modifying or repealing rules, it has adopted the relevant rule change without any additional process. Although the Commission reserves the right to proceed in this manner, it elects in this decision to proceed using what is known as a “direct final rule” process. By proceeding through a direct final rule, the Commission chooses to provide expanded opportunities for public comment even though the “good cause” standard does not legally require it to do so. Under a direct final rule process, rule changes are adopted without prior notice and comment, but are accompanied by an opportunity for the public to file comments—and if the Commission concludes that significant adverse comments have been filed, the relevant rule changes would not take effect until after a full notice and comment process.

In particular, the Commission will publish this item adopting direct final rules in the Federal Register, and allow for comment from interested parties within 20 days of Federal Register publication. Until 20 days after Federal Register publication, this shall be a “permit-but-disclose” proceeding for purposes of the Commission's ex parte rules. Because this comment process is directed toward the discrete objective of the direct final rule process, and to avoid unwarranted delay in that process, the Commission prohibits filings addressing the rule changes contemplated in this document more than 20 days after Federal Register publication, absent further direction from the Commission published in the Federal Register. This both accords with the purpose of the comment process for direct final rules, and is similar (though not identical) to actions the Commission has taken in other contexts to provide a defined end-point for public filings to enable the Commission to focus its attention on the submissions already before it.

The rule revisions in this document will go into effect 60 days after Federal Register publication. If the Commission receives comments on these rule revisions, it will evaluate whether there are significant adverse comments that warrant further procedures before changing the rules. In its assessment, the Commission plans to be guided by the recommendation of the Administrative Conference of the United States (“ACUS”) that “[a]n agency should consider any comment received during direct final rulemaking to be a significant adverse comment if the comment explains why: a. The [direct final] rule would be inappropriate, including challenges to the rule's underlying premise or approach; or b. The [direct final] rule would be ineffective or unacceptable without a change.”

If the Commission concludes that a significant adverse comment has been filed, the Office of Engineering and Technology will publish a timely withdrawal in the Federal Register to prevent the rule revisions from going into effect until any appropriate additional procedures have been followed. If a significant adverse comment is filed only with respect to a subset of the rule revisions addressed by this document, the Office of Engineering and Technology will withdraw the portions of the Direct Final Rule that were subject to the significant adverse comment. For example, if a significant adverse comment is filed regarding a single rule within this document, which contains multiple rule revisions, the Commission will publish a withdrawal of only the rule addressed by the significant adverse comment.

In the event that no comments are filed in response to this document, the Commission does not anticipate publishing a confirmation of the effective date in the Federal Register but will simply allow the rule changes to take effect as originally specified. If comments are filed but none are deemed significant adverse comments, where warranted by the record the Office of Engineering and Technology will issue a Public Notice (PN) that briefly explains why the comments filed were not determined to be significant adverse comments.

Ordering Clauses

Accordingly, it is ordered that, pursuant to sections 4(i), 4(j), and 303(r) of the Communications Act, 47 U.S.C. 154(i), 154(j), and 303(r), the Direct Final Rule is adopted. Except as specified in paragraph 8, this Direct Final Rule shall be effective upon Federal Register publication of the rule changes set forth in the Appendix, which shall also serve as the date of public notice of that action.

It is further ordered that the amendments of the Commission's rules as set forth in Appendix A shall be effective 60 days after Federal Register publication. In the event that significant adverse comments are filed, the Office of Engineering and Technology shall publish a timely document in the Federal Register withdrawing the rule so that the rule change does not become effective until any additional procedures have been followed. In the event that significant adverse comments are filed with respect to only a subset of the rule revisions, the Commission directs the Office of Engineering and Technology to publish a timely document in the Federal Register withdrawing only such rule(s) so that the rule change does not become effective until any additional procedures have been followed.

It is further ordered that the Office of the Managing Director, Performance Program Management, shall send a copy of this document in a report to be sent to Congress and the Government Accountability Office pursuant to the Congressional Review Act, 5 U.S.C. 801(a)(1)(A).

List of Subjects

47 CFR Part 2

Administrative practice and procedures, Common carriers, Communications, Communications common carriers, Communications equipment, Imports, Reporting and recordkeeping requirements, Telecommunications.

47 CFR Part 15

Communications equipment, Computer technology, Labeling, Radio, Reporting and recordkeeping requirements, Security measures, Telephone, Wiretapping and electronic surveillance.

47 CFR Part 18

Business and industry, Household appliances, Medical devices, Radio, Reporting and recordkeeping requirements, Scientific equipment.

Federal Communications Commission.
Marlene Dortch,
Secretary.

Direct Final Rules

For the reasons set forth above, the Federal Communications Commission amends parts 2, 15, and 18 of title 47 of the Code of Federal Regulations as follows:

PART 2—FREQUENCY ALLOCATIONS AND RADIO TREATY MATTERS; GENERAL RULES AND REGULATIONS

1. The authority citation for part 2 continues to read as follows:

Authority: 47 U.S.C. 154, 302a, 303, and 336, unless otherwise noted.

Subpart I—Marketing of Radio-Frequency Devices

§ 2.813 [Removed and Reserved]

2. Remove and reserve § 2.813.

§ 2.1033 [Amended]

3. Amend § 2.1033 by removing and reserving paragraph (b)(13).

PART 15—RADIO FREQUENCY DEVICES

4. The authority citation for part 15 continues to read as follows:

Authority: 47 U.S.C. 154, 302a, 303, 304, 307, 336, 544a, and 549.

Subpart A—General

§ 15.25 [Removed and Reserved]

5. Remove and reserve § 15.25.

§ 15.37 [Amended]

6. Amend § 15.37 by removing and reserving paragraphs (a), (e), (f), and (j) through (r).

Subpart B—Unintentional Radiators

§ 15.117 [Amended]

7. Amend § 15.117 by removing and reserving paragraphs (f) and (g).

§ 15.118 [Removed and Reserved]

8. Remove and reserve § 15.118.

§ 15.120 [Amended]

9. Amend § 15.120 by removing and reserving paragraphs (c)(1) and (d)(1).

§ 15.121 [Removed and Reserved]

10. Remove and reserve § 15.121.

Subpart C—Intentional Radiators

11. Amend § 15.205 by revising the table in paragraph (a) to read as follows:

§ 15.205 Restricted bands of operation.

(a) * * *

Table 1 to Paragraph (a)
MHz | MHz | MHz | GHz
0.090-0.110 | 16.42-16.423 | 399.9-410 | 4.5-5.15.
0.495-0.505 | 16.69475-16.69525 | 608-614 | 5.35-5.46.
2.1735-2.1905 | 16.80425-16.80475 | 960-1240 | 7.25-7.75.
4.125-4.128 | 25.5-25.67 | 1300-1427 | 8.025-8.5.
4.17725-4.17775 | 37.5-38.25 | 1435-1626.5 | 9.0-9.2.
4.20725-4.20775 | 73-74.6 | 1645.5-1646.5 | 9.3-9.5.
6.215-6.218 | 74.8-75.2 | 1660-1710 | 10.6-12.7.
6.26775-6.26825 | 108-121.94 | 1718.8-1722.2 | 13.25-13.4.
6.31175-6.31225 | 123-138 | 2200-2300 | 14.47-14.5.
8.291-8.294 | 149.9-150.05 | 2310-2390 | 15.35-16.2.
8.362-8.366 | 156.52475-156.52525 | 2483.5-2500 | 17.7-21.4.
8.37625-8.38675 | 156.7-156.9 | 2690-2900 | 22.01-23.12.
8.41425-8.41475 | 162.0125-167.17 | 3260-3267 | 23.6-24.0.
12.29-12.293 | 167.72-173.2 | 3332-3339 | 31.2-31.8.
12.51975-12.52025 | 240-285 | 3345.8-3358 | 36.43-36.5.
12.57675-12.57725 | 322-335.4 | 3600-4400 | Above 38.6.
13.36-13.41

* * * * *

§ 15.233 [Removed and Reserved]

12. Remove and reserve § 15.233.

§ 15.252 [Amended]

13. Amend § 15.252 by removing and reserving paragraphs (a)(1) through (3) and (b) through (d).

Subpart E—Unlicensed National Information Infrastructure Devices

§ 15.407 [Amended]

14. Amend § 15.407 by removing and reserving paragraph (b)(4)(ii).

Subpart F—Ultra-Wideband Operation

§ 15.515 [Removed and Reserved]

15. Remove and reserve § 15.515.

Subpart G—[Removed and Reserved]

16. Remove and reserve subpart G, consisting of §§ 15.601 through 15.615.

Subpart H—White Space Devices

§ 15.703 [Amended]

17. Amend § 15.703 by removing the definitions of “Sensing only device” and “Spectrum sensing”.

§ 15.709 [Amended]

18. Amend § 15.709 by removing and reserving paragraphs (b)(3) and (g).

§ 15.717 [Removed and Reserved]

19. Remove and reserve § 15.717.

PART 18—INDUSTRIAL, SCIENTIFIC, AND MEDICAL EQUIPMENT

20. The authority citation for part 18 continues to read as follows:

Authority: 47 U.S.C. 154, 301, 302, 303, 304, 307.

Subpart B—Applications and Authorizations

§ 18.203 [Amended]

21. Amend § 18.203 by removing and reserving paragraph (c).

[FR Doc. 2026-01442 Filed 1-23-26; 8:45 am]

BILLING CODE 6712-01-P